DEPARTMENT OF ENERGY

Federal Energy Regulatory Commission

Combined Notice of Filings #1

August 24, 2009.

Take notice that the Commission received the following electric rate filings:

Docket Numbers: ER98-4515-010.

Applicants: Cadillac Renewable Energy LLC.

Description: Cadillac Renewable Energy, LLC submits Substitute Original Sheet No 3.

Filed Date: 08/18/2009.

Accession Number: 20090824-0033.

Comment Date: 5 p.m. Eastern Time on Tuesday, September 08, 2009.

Docket Numbers: ER07-1356-011; ER00-2885-025; ER07-1112-009; ER01-2765-024; ER02-2102-024; ER03-1283-019; ER05-1232-020; ER07-1113-009; ER07-1116-008; ER07-1117-011; ER07-1118-010; ER07-1358-010; ER09-1141-003; ER09-335-006; ER09-609-002.

Applicants: J.P. Morgan Ventures Energy Corporation, BE Allegheny LLC, BE CA LLC, BE Ironwood LLC, BE KJ LLC, BE Alabama LLC, BE Louisiana LLC, Cedar Brakes I, LLC, Utility Contract Funding, LLC, Vineland Energy LLC, Central Power & Lime LLC, Cedar Brakes II, LLC, J.P. Morgan Commodities Canada Corporation, BE Rayle LLC

Description: Notice of Non-Material Change in Status of the JPMorgan Sellers.

Filed Date: 08/21/2009.

Accession Number: 20090821-5105.

Comment Date: 5 p.m. Eastern Time on Friday, September 11, 2009.

Docket Numbers: ER07-1106-005; ER02-1884-009.

Applicants: ArcLight Energy Marketing, LLC; Waterside Power, LLC

Description: ArcLight Energy Marketing, LLC et al. submits a notice of non-material change in status.

Filed Date: 08/20/2009.

Accession Number: 20090821-0165.

Comment Date: 5 p.m. Eastern Time on Thursday, September 10, 2009.

Docket Numbers: ER08-1288-005; ER07-357-006; ER03-1340-005

Applicants: Wapsipinicon Wind Project, LLC; Fenton Power Partners I, LLC; Chanarambie Power Partners LLC.

Description: Wapsipinicon Wind Project, LLC et al. submits a change in status filing, triennial update and revision of tariffs.

Filed Date: 08/20/2009.

Accession Number: 20090821-0166.

Comment Date: 5 p.m. Eastern Time on Monday, October 19, 2009.

Docket Numbers: ER09-134-003; ER09-135-004; ER09-136-003; ER09-137-003;

Applicants: FirstEnergy Solutions Corp.; FirstEnergy Generation Corp.; FirstEnergy Nuclear Generation Corp.; FirstEnergy Generation Mansfield Unit 1.

Description: FirstEnergy Solutions Corp et al. submits compliance filing regarding the Commission's 7/31/09 Order on Rehearing.

Filed Date: 08/21/2009.

Accession Number: 20090824-0028.

Comment Date: 5 p.m. Eastern Time on Friday, September 11, 2009.

Docket Numbers: ER09-921-001.

Applicants: PacifiCorp.

Description: PacifiCorp submits Original Sheet 1 et al. to FERC Electric Tariff, Original Volume 14.

Filed Date: 08/21/2009.

Accession Number: 20090824-0113.

Comment Date: 5 p.m. Eastern Time on Friday, September 11, 2009.

Docket Numbers: ER09-1476-001; ER04-1113-002; ER06-270-002; ER06-271-002; ER09-1477-001.

Applicants: Solios Asset Management LLC; Pythagoras Global Investors L.P.; Solios Asset Management LLC; Solios Power, LLC; Pythagoras Global Investors L.P.

Description: Solios Power, LLC et al. submits notice of non material change in status and notice of cancellation of rate schedules.

Filed Date: 08/20/2009.

Accession Number: 20090821-0171.

Comment Date: 5 p.m. Eastern Time on Thursday, September 10, 2009.

Docket Numbers: ER09-1556-001.

Applicants: Midwest Independent Transmission System Operator, Inc.

Description: Midwest Independent Transmission System Operator, Inc submits an amended executed Multiparty Facilities Construction Agreement among Barton Windpower et al.

Filed Date: 08/21/2009.

Accession Number: 20090824-0027.

Comment Date: 5 p.m. Eastern Time on Friday, September 11, 2009.

Docket Numbers: ER09-1557-001.

Applicants: Midwest Independent Transmission System Operator, Inc.

Description: Midwest Independent Transmission System Operator, Inc submits an amended executed Multi-Party Facilities Construction Agreement among Barton Windpower et al.

Filed Date: 08/21/2009.

Accession Number: 20090824-0026.

Comment Date: 5 p.m. Eastern Time on Friday, September 11, 2009.

Docket Numbers: ER09-1561-001; ER09-1561-002.

Applicants: Castleton Power, LLC.

Description: Castleton Power, LLC submits an amended notice of succession and notice of non-material change in status.

Filed Date: 08/21/2009.

Accession Number: 20090824-0029.

Comment Date: 5 p.m. Eastern Time on Friday, September 11, 2009.

Docket Numbers: ER09-1608-000.

Applicants: Upper Peninsula Power Company.

Description: Upper Peninsula Power Company submits FERC Electric Tariff, Original Volume 2, Service Agreement No 11U.

Filed Date: 08/19/2009.

Accession Number: 20090820-0052.

Comment Date: 5 p.m. Eastern Time on Wednesday, September 09, 2009.

Docket Numbers: ER09-1609-000.

Applicants: Southwest Power Pool, Inc.

Description: Southwest Power Pool, Inc submits revisions to its Open Access Transmission Tariff to update the list of Grandfathered Agreements contained in Attachment W of the SPP Tariff.

Filed Date: 08/19/2009.

Accession Number: 20090820-0051.

Comment Date: 5 p.m. Eastern Time on Wednesday, September 09, 2009.

Docket Numbers: ER09-1610-000.

Applicants: Southern California Edison Company.

Description: Southern California Edison Company submits a letter agreement with the City of Victorville.

Filed Date: 08/20/2009.

Accession Number: 20090820-0146.

Comment Date: 5 p.m. Eastern Time on Thursday, September 10, 2009.

Docket Numbers: ER09-1611-000.

Applicants: Southern California Edison Company.

Description: Southern California Edison Company submits SCLA Development Wholesale Distribution Load Interconnection Facilities Agreement and Service Agreement for Wholesale Distribution Service with the City of Victorville.

Filed Date: 08/20/2009.

Accession Number: 20090820-0147.

Comment Date: 5 p.m. Eastern Time on Thursday, September 10, 2009.

Docket Numbers: ER09-1612-000.

Applicants: New York Independent System Operator, Inc.

Description: New York Independent System Operator, Inc submits Seventh Revised Sheet 9 et al. to FERC Electric Tariff, Original Volume 1, to be effective 10/20/09.

Filed Date: 08/20/2009.

Accession Number: 20090821-0106.

Comment Date: 5 p.m. Eastern Time on Thursday, September 10, 2009.

Docket Numbers: ER09-1613-000.

Applicants: Florida Power & Light Company.

Description: Florida Power & Light Company submits Original Service Agreement 271 to FERC Electric Tariff, Second Revised Volume 6.

Filed Date: 08/21/2009.

Accession Number: 20090821-0186.

Comment Date: 5 p.m. Eastern Time on Friday, September 11, 2009.

Docket Numbers: ER09-1614-000.

Applicants: Florida Power & Light Company.

Description: Florida Power & Light Company submits an Interconnection Agreement with Seminole Energy LLC.

Filed Date: 08/21/2009.

Accession Number: 20090821-0183.

Comment Date: 5 p.m. Eastern Time on Friday, September 11, 2009.

Docket Numbers: ER09-1615-000.

Applicants: Southern California Edison Company.

Description: Southern California Edison Company submits First Revised Rate Schedule FERC 364 reflecting the cancellation of the Amended/Restated Edison-Colton Sylmar Firm Transmission Service Agreement w/City of Colton.

Filed Date: 08/21/2009.

Accession Number: 20090821-0184.

Comment Date: 5 p.m. Eastern Time on Friday, September 11, 2009.

Docket Numbers: ER09-1616-000.

Applicants: Tampa Electric Company.

Description: Tampa Electric Company submits First Revised Rate Schedule FERC No 27.

Filed Date: 08/21/2009.

Accession Number: 20090821-0185.

Comment Date: 5 p.m. Eastern Time on Friday, September 11, 2009.

Docket Numbers: ER09-1617-000.

Applicants: Midwest Independent Transmission System Operator, Inc.

Description: Midwest Independent Transmission System Operator, Inc submits Transmission Interconnection Agreement among the MidAmerican Energy Company, ITC Midwest LLC and Midwest ISO.

Filed Date: 08/21/2009.

Accession Number: 20090824-0030.

Comment Date: 5 p.m. Eastern Time on Friday, September 11, 2009.

Docket Numbers: ER09-1619-000.

Applicants: Midwest Independent Transmission System Operator, Inc.

Description: Midwest Independent Transmission System Operator, Inc submits its proposed revisions to its Open Access Transmission, Energy and Operating Reserve Market Tariff etc.

Filed Date: 08/21/2009.

Accession Number: 20090824-0115.

Comment Date: 5 p.m. Eastern Time on Friday, September 11, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E9-20995 Filed 8-31-09; 8:45 am]

BILLING CODE 6717-01-P